NUCLEAR REGULATORY COMMISSION

[NRC-2016-0074]

Sequoyah State-of-the-Art Reactor Consequence Analyses

AGENCY: Nuclear Regulatory Commission.

ACTION: Draft technical report; public meeting and request for comment.

SUMMARY: The U.S. Nuclear Regulatory Commission (NRC) is issuing for public comment draft technical report, “State-of-the-Art Reactor Consequence Analyses (SOARCA): Sequoyah Integrated Deterministic and Uncertainty Analysis.” A public meeting related to the issuance of this draft technical report will be held on April 20, 2016. The purpose of the meeting is to present information on the pilot study for potential severe reactor accident progression and resulting offsite radiological health consequences.

DATES: Submit comments by May 12, 2016. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2016-0074. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Salman Haq, Office of Nuclear Regulatory Research, U.S. Nuclear Regulatory Commission, Washington, DC 20555-0001; telephone: 301-415-1799; email: Salman.Haq@nrc.gov.

SUPPLEMENTARY INFORMATION:

I. Obtaining Information and Submitting Comments

A. Obtaining Information

Please refer to Docket ID NRC-2016-0074 when contacting the NRC about the availability of information for this action. You may obtain publicly-available information related to this action by any of the following methods:

• Federal Rulemaking Web site: Go to http://www.regulations.gov and search for Docket ID NRC-2016-0074.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft technical report, “State-of-the-Art Reactor Consequence Analyses (SOARCA): Sequoyah Integrated Deterministic and Uncertainty Analysis,” is available in ADAMS under Accession No. ML16096A374.

• NRC's PDR: You may examine and purchase copies of public documents at the NRC's PDR, Room O1-F21, One White Flint North, 11555 Rockville Pike, Rockville, Maryland 20852.

B. Submitting Comments

Please include Docket ID NRC-2016-0074 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The Sequoyah SOARCA project considered a select set of potential severe reactor accidents at the Sequoyah power plant. The project combined up-to-date information about the plant's layout and operations with local population data and emergency preparedness plans. This information was then analyzed using state-of-the-art computer codes that incorporate decades of research into severe reactor accidents.

The public meeting will be held on April 20, 2016, from 6:30 p.m. to 8:00 p.m. at the Sequoyah Nuclear Plant Training Center, 2600 Igou Ferry Road, Soddy-Daisy, Tennessee 37379. The SOARCA team will hold an informal poster session, then present the project's approach and findings, answer questions, and take comments on the draft report. The meeting agenda will be published on the NRC's Public Meeting Schedule Web site, http://meetings.nrc.gov/pmns/mtg, 10 days prior to the meeting. Any changes regarding the meeting will be available on the previously stated Web site.

Dated at Rockville, Maryland, this 5th day of April, 2016.
For the Nuclear Regulatory Commission.
Patricia A. Santiago,
Chief, Accident Analysis Branch, Division of Systems Analysis, Office of Nuclear Regulatory Research.

[FR Doc. 2016-08383 Filed 4-11-16; 8:45 am]

BILLING CODE 7590-01-P